DEPARTMENT OF THE INTERIOR

Bureau of Land Management

[NV-952-04-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: David J. Clark, Acting Chief, Branch of Geographic Sciences, Bureau of Land Management (BLM), Nevada State Office, 1340 Financial Blvd., P.O. Box 12000, Reno, Nevada 89520, (775) 861-6541.

SUPPLEMENTARY INFORMATION:

1. The Plat of Survey of the following described lands was officially filed at the Nevada State Office, Reno, Nevada, on July 11, 2003:

The plat, in three sheets, representing the dependent resurvey of a portion of the west boundary, a portion of the subdivisional lines and a portion of the subdivision-of-section lines of section 20, the further subdivision of section 20, the subdivision of sections 29 and 30, and metes-and-bounds surveys in sections 19, 20, 29, and 30, Township 23 South, Range 62 East, Mount Diablo Meridian, Nevada, under Group No. 809, was accepted July 10, 2003.

This plat was prepared to meet certain administrative needs of the Bureau of Land Management.

2. The Plat of Survey of the following described lands were officially filed at the Nevada State Office, Reno, Nevada, on September 5, 2003:

The plat, representing the dependent resurvey of a portion of the subdivisional lines, the subdivision of section 6, and a metes-and-bounds survey in section 6, Township 18 North, Range 29 East, Mount Diablo Meridian, Nevada, under Group No. 813, was accepted September 4, 2003.

This survey was executed to meet certain administrative needs of the Bureau of Reclamation.

3. The Supplemental Plat of the following described lands was officially filed at the Nevada State Office, Reno, Nevada, on September 9, 2003:

The supplemental plat, showing a subdivision of lot 4, section 30, Township 14 North, Range 71 East, Mount Diablo Meridian, Nevada, was accepted September 9, 2003.

This supplemental plat was prepared to meet certain administrative needs of the Bureau of Land Management.

4. The above-listed surveys are now the basic record for describing the lands for all authorized purposes. These surveys have been placed in the open files in the BLM Nevada State Office and are available to the public as a matter of information. Copies of the surveys and related field notes may be furnished to the public upon payment of the appropriate fees.

Dated: November 7, 2003.
David J. Clark,
Acting Chief Cadastral Surveyor, Nevada.

[FR Doc. 03-28590 Filed 11-14-03; 8:45 am]

BILLING CODE 4310-HC-P